DEPARTMENT OF TRANSPORTATION

Federal Aviation Administration

Notice of Passenger Facility Charge (PFC) Approvals and Disapprovals

AGENCY: Federal Aviation Administration (FAA), DOT.

ACTION: Monthly Notice of PFC Approvals and Disapprovals. In November 2003, there were three applications approved. Additionally, one approved amendment to a previously approved application is listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Allegheny County Airport Authority, Pittsburgh, Pennsylvania.

Application Number: 03-02-U-00-PIT.

Application Type: Use PFC revenue.

PFC Level: $3.00.

Total PFC Revenue To Be Used in This Decision: $125,000.

Charge Effective Date: October 1, 2001.

Estimated Charge Expiration Date: October 1, 2006.

Class of Air Carriers Not Required To Collect PFC's: No change from previous decision.

Brief Description of Project Approved for Use: Replace security fence.

Decision Date: November 3, 2003.

FOR FURTHER INFORMATION CONTACT: Lori Ledebohm, Harrisburg Airports District Office, (717) 730-2835.

Public Agency: Huntsville-Madison County Airport Authority, Huntsville, Alabama.

Application Number: 03-13-C-00-HSV.

Application Type: Impose and use a PFC.

PFC Level: $4.50.

Total PFC Revenue Approved in This Decision: $893,788.

Earliest Charge Effective Date: September 1, 2005.

Estimated Charge Expiration Date: April 1, 2006.

Classes of Air Carriers Not Required To Collect PFC's: (1) Air taxi/commercial operators; (2) certified air carriers; and (3) certified route air carriers having fewer than 500 annual passenger enplanements.

Determination: Approved. Based on information contained in the public agency's application, the FAA has determined that each approved class accounts for less than 1 percent of the total annual enplanements at Huntsville International Airport.

Brief Description of Projects Approved for Collection and Use:

Aircraft rescue and firefighting vehicle.

Security enhancements.

Pavement condition index study.

Fixed base operator taxi widening and taxi lane installation.

Baggage claim/terminal renovation.

Terminal front sink hole repair.

Air traffic control tower site study.

Aircraft rescue and firefighting suit replacements.

Regional jet bridge modifications.

New jet bridge, gate 9.

Terminal front access road paving/canopy.

Airfield/ramp rehabilitation.

Decision Date: November 5, 2003.

FOR FURTHER INFORMATION CONTACT: Keafur Grimes, Jackson Airports District Office, (601) 664-9884.

Public Agency: San Francisco Airport Commission, San Francisco, California.

Application Number: 03-03-C-00-SFO.

Application Type: Impose and use a PFC.

PFC Level: $4.50.

Total PFC Revenue Approved in This Decision: $539,107,697.

Earliest Charge Effective Date: November 1, 2008.

Estimated Charge Expiration Date: November 1, 2018.

Class of Air Carriers Not Required To Collect PFCs: Nonscheduled/on-demand air carriers filing FAA Form 1800-31.

Determination: Approved. Based on information contained in the public agency's application, the FAA has determined that the approved class accounts for less than 1 percent of the total annual enplanements at San Francisco International Airport.

Brief Description of Projects Approved for Collection and Use at a $4.50 PFC Level:

Boarding areas A and G.

International terminal building.

Decision Date: November 7, 2003.

FOR FURTHER INFORMATION CONTACT: Marlys Lingsch, San Francisco Airports District Office, (650) 876-2806.

Amendment to PFC Approvals:

Amendment No., city, state | Amendment approved date | Original approved net PFC revenue | Amended approved net PFC revenue | Original estimated charge exp. date | Amended estimated charge exp. date
99-01-C-03-ANC, Anchorage, AK | 11/14/03 | $15,000,000 | $22,000,000 | 01/01/04 | 01/01/06

Issued in Washington, DC, on December 19, 2003.
JoAnn Horne,
Manager, Financial Analysis and Passenger Facility Charge Branch.

[FR Doc. 03-31748 Filed 12-23-03; 8:45 am]

BILLING CODE 4910-13-M